DEPARTMENT OF LABOR

Employment and Training Administration

[TA-W-57,610]

Gerdau Ameristeel; Beaumont Mill Division; Beaumont, TX; Dismissal of Application for Reconsideration

Pursuant to 29 CFR 90.18(C) an application for administrative reconsideration was filed with the Director of the Division of Trade Adjustment Assistance for workers at Gerdau Ameristeel, Beaumont Mill Division, Beaumont, Texas. The application did not contain new information supporting a conclusion that the determination was erroneous, and also did not provide a justification for reconsideration of the determination that was based on either mistaken facts or a misinterpretation of facts or of the law. Therefore, dismissal of the application was issued.

TA-W-57,610; Gerdau Ameristeel, Beaumont Mill Division, Beaumont, Texas (December 23, 2005)

Signed at Washington, DC this 28th day of December 2005.
Erica R. Cantor,
Director, Division of Trade Adjustment Assistance.

[FR Doc. E5-8287 Filed 1-4-06; 8:45 am]

BILLING CODE 4510-30-P